DEPARTMENT OF COMMERCE

International Trade Administration

[A-570-101]

Greige Polyester Cotton Printcloth From the People's Republic of China: Final Results of Expedited Sunset Review of Antidumping Duty Order

AGENCY: Import Administration, International Trade Administration, Department of Commerce.

ACTION: Notice of final results of the second expedited sunset review of antidumping duty order on Greige Polyester Cotton Printcloth from the People's Republic of China.

SUMMARY: On March 1, 2004, the Department of Commerce (“the Department”) published the notice of initiation of the second sunset review of the antidumping duty order on Greige Polyester Cotton Printcloth from the People's Republic of China pursuant to section 751(c) of the Tariff Act of 1930, as amended (“the Act”). See Initiation of Five Year (“Sunset”) Reviews, 69 FR 9585 (March 1, 2004). Because the Department did not receive any response from respondent interested parties, we determined to conduct an expedited (120-day) sunset review. See 19 CFR 351.218(e)(1)(ii)(C)(2). As a result of this review, we find that revocation of the antidumping duty order would be likely to lead to continuation or recurrence of dumping at the levels listed below in the section entitled “Final Results of Review.”

EFFECTIVE DATE: July 6, 2004.

FOR FURTHER INFORMATION CONTACT: Hilary E. Sadler, Esq., Office of Policy, Import Administration, International Trade Administration, U.S. Department of Commerce, 14th Street and Constitution Avenue, NW., Room 2837, Washington, DC 20230; telephone: (202) 482-4340.

SUPPLEMENTARY INFORMATION:

Background

On March 1, 2004, the Department published the notice of initiation of the second sunset review of the antidumping duty order on greige polyester cotton printcloth from the People's Republic of China pursuant to section 751(c) of the Act.¹ The Department received the Notice of Intent to Participate on behalf of Alice Manufacturing Company, Inc. and Mount Vernon Mills, Inc., the domestic interested parties, within the deadline specified in section 351.218(d)(1)(i) of the Department's Regulations (“Sunset Regulations”). The domestic interested parties claimed interested party status under section 771(9)(C) of the Act, as domestic producers of greige polyester cotton printcloth. We received complete substantive responses from all domestic interested parties within the 30-day deadline specified in the Sunset Regulations under section 351.218(d)(3)(i). We received nothing from respondent interested parties. As a result, pursuant to section 751(c)(5)(A) of the Act and 19 CFR 351.218(e)(1)(ii)(C)(2), the Department conducted an expedited (120-day) sunset review of this finding.

¹ Initiation of Five-Year (Sunset) Reviews, 69 FR 9585 (March 1, 2004).

Scope of Review

The scope remains unchanged from the Final Results of Expedited Sunset Review; Greige Polyester Cotton Printcloth from the People's Republic of China, 64 FR 13399 (March 18, 1999). The merchandise subject to this antidumping order is greige polyester cotton printcloth, other than 80 x 80 type. Greige polyester cotton printcloth is of chief weight cotton,² unbleached and uncolored printcloth. The term “printcloth” refers to plain woven fabric, not napped, not fancy or figured, of singles yarn, not combed, of average yarn number 43 to 68,³ weighing not more than 6 ounces per square yard, of a total count of more than 85 yarns per square inch, of which the total count of the warp yarns per inch and the total count of the filling yarns per inch are each less than 62 percent of the total count of the warp and filling yarns per square inch. This merchandise is currently classifiable under Harmonized Tariff Schedule (HTSUS) item 5210.11.6060. The HTSUS item numbers are provided for convenience and U.S. Customs purposes. The written description remains dispositive.

² In the scope from the original investigation, the Department defined the subject merchandise by chief value (i.e., the subject merchandise was of chief value cotton). For the purposes of this review, we have incorporated Custom's conversion to chief weight (i.e., the subject merchandise is of chief weight cotton). See Memorandum, RE: Greige Polyester Cotton Printcloth-Scope, February 25, 1999.

³ Under the English system, this average yarn number count translates to 26 to 40. The average yarn number counts reported in previous scope descriptions by the Department are based on the English system of yarn number counts. Per phone conversations with U.S. Customs and Border Protection (“Customs”) officials, Customs now relies on the metric system to establish average yarn number counts. Thus, the 26 to 40 average yarn number count under the English system translates to a 43 to 68 average yarn number count under the metric system. See Memorandum, RE: Greige Polyester Cotton Printcloth-Scope, February 19, 1999.

Analysis of Comments Received

All issues raised in this case are addressed in the “Issues and Decision Memorandum” (“Decision Memo”) from Ronald K. Lorentzen, Acting Director, Office of Policy, Import Administration, to Jeffrey A. May, Acting Assistant Secretary for Import Administration, dated June 29, 2004, which is hereby adopted by this notice. The issues discussed in the Decision Memo include the likelihood of continuation or recurrence of dumping and the magnitude of the margin likely to prevail if the finding were to be revoked. Parties can find a complete discussion of all issues raised in this review and the corresponding recommendations in this public memorandum, which is on file in room B-099 of the main Commerce Building.

In addition, a complete version of the Decision Memo can be accessed directly on the Web at http://ia.ita.doc.gov/frn, under the heading “July 2004.” The paper copy and electronic version of the Decision Memo are identical in content.

Final Results of Review

We determine that revocation of the antidumping duty finding on Greige Polyester Cotton Printcloth from the People's Republic from China would be likely to lead to continuation or recurrence of dumping at the following weighted-average percentage margins:

Manufacturers/Exporters/Producers | Weighted-average margin percent
China-wide | 22.4

This notice also serves as the only reminder to parties subject to administrative protective orders (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing the results and notice in accordance with sections 751(c), 752, and 777(i)(1) of the Act.

Dated: June 29, 2004.
Jeffrey A. May,
Acting Assistant Secretary for Import Administration.

[FR Doc. 04-15229 Filed 7-2-04; 8:45 am]

BILLING CODE 3510-DS-P